DEPARTMENT OF COMMERCE

National Oceanic and Atmospheric Administration

RIN 0648- XA352

Marine Mammals; File No. 15537

AGENCY: National Marine Fisheries Service (NMFS), National Oceanic and Atmospheric Administration (NOAA), Commerce.

ACTION: Notice of availability of an Environmental Assessment.

SUMMARY: The National Marine Fisheries Service (NMFS) announces the availability of the Environmental Assessment (EA) prepared in response to a public display permit application received from the Institute for Marine Mammal Studies (IMMS), P.O. Box 207, Gulfport, MS 39502 (Dr. Moby Solangi, Responsible Party).

DATES: Written or telefaxed comments must be received on or before May 11, 2011.

ADDRESSES: The EA is available for review online at http://www.nmfs.noaa.gov/pr/permits/review.htm or upon written request or by appointment in the following office:

Permits, Conservation and Education Division, Office of Protected Resources, NMFS, 1315 East-West Highway, Room 13705, Silver Spring, MD 20910; phone (301) 713-2289; fax (301) 713-0376.

Written comments on this application should be submitted to the Chief, Permits, Conservation and Education Division, at the address listed above. Comments may also be submitted by facsimile to (301) 713-0376, or by e-mail to NMFS.Pr1Comments@noaa.gov. Please include the File No. 15537 in the subject line of the e-mail comment.

FOR FURTHER INFORMATION CONTACT: Jennifer Skidmore or Amy Sloan, (301) 713-2289.

SUPPLEMENTARY INFORMATION: On May 20, 2010, notice was published in the Federal Register (75 FR 28239) that a request for a permit was received by the above-named applicant under the authority of the Marine Mammal Protection Act of 1972, as amended (16 U.S.C. 1361 et seq.) and the regulations governing the taking and importing of marine mammals (50 CFR part 216). The applicant is requesting a permit to take releasable stranded California sea lions (two males and six females) from west coast stranding facilities for public display purposes. By this notice, NMFS requests public comment on the EA associated with this action.

Dated: April 6, 2011.
P. Michael Payne,
Chief, Permits, Conservation and Education Division, Office of Protected Resources, National Marine Fisheries Service.

[FR Doc. 2011-8576 Filed 4-8-11; 8:45 am]

BILLING CODE 3510-22-P